DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held on March 26-27, 2009, at the American Legion, Washington Office, 1608 K Street, NW., Washington, DC.

The purpose of the Committee is to review the post-war readjustment needs of Veterans and to evaluate the availability and effectiveness of VA programs to meet these needs.

On March 26, the Committee will meet in an open session from 8 a.m. until noon. The agenda will feature a review of the service needs of combat Veterans with Traumatic Brain Injury and VA's rehabilitation programs established to meet the needs of severely wounded Veterans and family members. The Committee will also receive a briefing on the current initiatives of the Readjustment Counseling Service Vet Center program to ensure timely access and the availability of quality readjustment services to assist the Veterans returning from Operation Enduring Freedom (OEF) and Operation Iraqi Freedom (OIF). The Committee will discuss deployment-related problems faced by service members and their families following redeployment of the service member. In the afternoon, the Committee will reconvene from 1:30 p.m. to 5 p.m. in a closed session in order to protect patient privacy as the Committee tours patient treatment areas at the Alexandria, Virginia Vet Center and discusses service needs with Veterans and family members. Closing this portion of the meeting is in accordance with 5 U.S.C. 552b(c)(6).

On March 27, the Committee will meet in open session from 8 a.m. until 4:30 p.m. and will receive a briefing on the research findings reported by the Walter Reed Army Institute for Research on the social and psychological problems of combat Veterans returning from OEF and OIF. The Committee will also finalize drafting recommendations for the Committee's next annual report.

Time will not be allocated at this meeting for receiving oral presentations from the public. However, members of the public may direct written questions or submit prepared statements for review by the Committee in advance to Mr. Charles M. Flora, M.S.W., Designated Federal Officer, Readjustment Counseling Service, Department of Veterans Affairs (15), 810 Vermont Avenue, NW., Washington, DC 20420. Those who plan to attend or have questions concerning the meeting may contact Mr. Flora at (202) 461-6525 or charles.flora@va.gov.

Dated: March 6, 2009.
By Direction of the Secretary:
E. Philip Riggin,
Committee Management Officer.

[FR Doc. E9-5281 Filed 3-10-09; 8:45 am]

BILLING CODE 8320-01-P